NATIONAL FOUNDATION ON THE ARTS AND THE HUMANITIES

National Endowment for the Arts

Combined Arts Advisory Panel Meetings

Pursuant to Section 10(a)(2) of the Federal Advisory Committee Act (Public Law 92-463), as amended, notice is hereby given that four meetings of the Combined Arts Advisory Panel to the National Council on the Arts (Arts Learning section) will be held at the Nancy Hanks Center, 1100 Pennsylvania Avenue, NW, Washington, D.C., 20506 as follows:

Arts Learning Panel A: October 15-19, 2001, Room 716 (section 1) & Room 714 (section 2). A portion of this meeting, from 10 a.m. to 12 p.m. on October 19th, will be open to the public for policy discussion. The remaining portions of this meeting, from 9 a.m. to 6 p.m. on October 15th-18th, from 9 a.m. to 10 a.m. and 12 p.m. to 4 p.m. on October 19th, will be closed.

Arts Learning Panel B : October 9-12, 2001, Room 716. A portion of this meeting, from 10:30 a.m. to 12 p.m. on October 12th, will be open to the public for policy discussion. The remaining portions of this meeting, from 9 a.m. to 5:30 p.m. on October 9th, from 9 a.m. to 6:30 p.m. on October 13th-14th, and from 9 a.m. to 10 a.m. and 12 p.m. to 3 p.m. on October 12th, will be closed.

Arts Learning Panel C : October 22-26, 2001, Room 716. A portion of this meeting, from 2:45 p.m. to 4 p.m. on October 26th, will be open to the public for policy discussion. The remaining portions of this meeting, from 9 a.m. to 5:30 p.m. on October 22nd, from 9:30 a.m. to 6 p.m. on October 23rd-25th, and from 9 a.m. to 2:45 p.m. and 4 p.m. to 5 p.m. on October 26th, will be closed.

The closed portions of these meetings are for the purpose of Panel review, discussion, evaluation, and recommendation on applications for financial assistance under the National Foundation on the Arts and the Humanities Act of 1965, as amended, including information given in confidence to the agency by grant applicants. In accordance with the determination of the Chairman of May 22, 2001, these sessions will be closed to the public pursuant to (c)(4)(6) and (9)(B) of section 552b of Title 5, United States Code.

Any person may observe meetings, or portions thereof, of advisory panels that are open to the public, and, if time allows, may be permitted to participate in the panel's discussions at the discretion of the panel chairman and with the approval of the full-time Federal employee in attendance.

If you need special accommodations due to a disability, please contact the Office of AccessAbility, National Endowment for the Arts, 1100 Pennsylvania Avenue, N.W., Washington, D.C. 20506, 202/682-5532, TDY-TDD 202/682-5496, at least seven (7) days prior to the meeting.

Further information with reference to this meeting can be obtained from Ms. Kathy Plowitz-Worden, Office of Guidelines & Panel Operations, National Endowment for the Arts, Washington, D.C., 20506, or call 202/682-5691.

Dated: September 6, 2001.
Kathy Plowitz-Worden,
Panel Coordinator.

[FR Doc. 01-22819 Filed 9-11-01; 8:45 am]

BILLING CODE 7537-01-P